DEPARTMENT OF COMMERCE

Foreign-Trade Zones Board

[Docket 2-2006]

Foreign-Trade Zone 106—Oklahoma City, OK, Area Application for Reorganization/Expansion

An application has been submitted to the Foreign-Trade Zones (FTZ) Board (the Board) by the Port Authority of the Greater Oklahoma City Area, grantee of FTZ 106, requesting authority to expand its zone in the Oklahoma City, Oklahoma, area, within and adjacent to the Oklahoma City Customs port of entry. The application was submitted pursuant to the provisions of the Foreign-Trade Zones Act, as amended (19 U.S.C. 81a-81u), and the regulations of the Board (15 CFR Part 400). It was formally filed on January 30, 2006.

FTZ 106 was approved on September 14, 1984 (Board Order 271, 49 FR 37133, 9/21/84) and expanded on December 7, 1989 (Board Order 455, 54 FR 51441, 12/15/89), and on February 10, 2000 (Board Order 1078, 65 FR 8337, 2/18/00).

FTZ 106 currently consists of 11 sites (1,675 acres) in the Oklahoma City area: Site 1 (876 acres)—within the 6,700-acre Will Rogers World Airport complex; Site 2 (6 acres)—106,000-square foot distribution and storage warehouse, 3501 Melcat Drive in the Lakeside Business Park, adjacent to the Will Rogers World Airport; Site 3 (5 acres)—Mid America Business Park I, 6205 S. Sooner, Oklahoma City; Site 4 (50 acres)—Mid America Business Park II, Mid America Boulevard, Oklahoma City; Site 5 (292 acres)—South River Industrial Park, IH-35 and IH 40, Oklahoma City; Site 6 (42 acres)—Continental Distribution Park, SW. 29th and Council, Oklahoma City; Site 7 (110 acres)—Western Heights Properties, L.L.C., industrial park, south of SW. 29th between South Rockwell & Council, Oklahoma City; Site 8 (30 acres)—Airport NE. located northeast of Will Rogers World Airport, Oklahoma City; Site 9 (200 acres)—Kelley Pointe Industrial Park, 33rd Street and Kelley Avenue, Edmond; Site 10 (43 acres)—Kelley Avenue International Trade Center, south of 15th between Kelley Avenue and AT&SF Railroad, Edmond; and, Site 11 (21 acres)—Tower Industrial Park, Tract II, Tower Drive and Woodview, Moore.

The applicant is requesting authority to expand Site 1 to include an additional 185 acres (2 parcels) within the 6700-acre Will Rogers World Airport complex (new total—1,061 acres) and to expand the zone to include two new sites in the area: Proposed Site 12 (26 acres)—ICON Center Industrial Park, 300 East Arlington, Ada; and, Proposed Site 13 (308 acres)—within the 401-acre Guthrie/Edmond Regional Airport, 520 Airport Road, Guthrie. The proposed sites are owned by Robbie Sherrell and the City of Guthrie, respectively. The applicant is also requesting authority to remove the following sites from the zone project due to changed circumstances: South River Industrial Park (Site 5—292 acres); Continental Distribution Park (Site 6—42 acres); Kelley Pointe Industrial Park (Site 9—200 acres); and, Tower Industrial Park (Site 11—21 acres). No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB—Suite 4100W, 1401 Constitution Avenue, NW., Washington, DC 20230.

The closing period for their receipt is April 10, 2006. Rebuttal comments in response to material submitted during the foregoing period may be submitted during the subsequent 15-day period (to April 25, 2006).

A copy of the application and accompanying exhibits will be available during this time for public inspection at the Office of the Foreign-Trade Zones Board's Executive Secretary at the first address listed above, and at the U.S. Department of Commerce, Export Assistance Center, 301 NW 63rd Street, Suite 330, Oklahoma City, Oklahoma 73116.

Dated: January 30, 2006.
Dennis Puccinelli,
Executive Secretary.

[FR Doc. 06-1224 Filed 2-8-06; 8:45 am]

BILLING CODE 3510-DS-P